ENVIRONMENTAL PROTECTION AGENCY

[FRL-6537-1]

Notice of Open Meeting of the Environmental Financial Advisory Board Cost-Effective Environmental Management Workgroup, March 6, 2000

The Environmental Protection Agency's (EPA) Environmental Financial Advisory Board, Cost Effective Environmental Management Workgroup (CEM) will hold an open meeting in Washington, DC on March 6, 2000. The meeting will be held at the National Press Club, 13th Floor in the First Amendment Lounge, 14th and F Streets, NW, Washington, DC. The meeting will begin at 9:00 am and end at approximately 4:00 pm.

The meeting will consist of a group of respected panelists who will share their perspectives on what the Environmental Protection Agency's role should be with respect to cost-effective environmental management (CEM) for drinking water and wastewater and what the Environmental Financial Advisory Board should do to assist the Agency in this regard. Several issues to be discussed include: federal and state tax policies that help or hinder CEM, financial innovations and new approaches in the field; examples of successes and failures; and changes in CEM and factors driving change.

The meeting is open to the public, but seating is limited. To confirm your participation or get additional information, please contact Vanessa Bowie, U.S. EPA on 202-564-5186.

Dated: February 7, 2000.
Joseph L. Dillon,
Acting Comptroller.

[FR Doc. 00-3483 Filed 2-14-00; 8:45 am]

BILLING CODE 6500-50-M